DEPARTMENT OF TRANSPORTATION

Coast Guard

[CGD01-01-020]

Environmental Assessment and Finding of No Significant Impact for Installation of Temporary Radio Direction Finding Equipment and Associated Property Use Acquisition At Five Non-Coast Guard Owned Facilities Within the First Coast Guard District

AGENCY: Coast Guard, DOT.

ACTION: Notice of availability.

SUMMARY: The U.S. Coast Guard (USCG) announces the availability of the Final Environmental Assessment (FEA) and Finding of No Significant Impact (FONSI) that address the environmental impacts expected to result from the use of five facilities, not owned by the Coast Guard, for temporary installation of radio direction finding equipment. Use of this temporary equipment is an interim measure designed to improve the Coast Guard's ability to locate the source of emergency distress radio signals until the long term improvements to the National Distress System (NDS) are implemented. The five facilities are located within the First Coast Guard District in coastal areas of the States of Massachusetts, Rhode Island and New York. This FEA evaluates the environmental and socioeconomic impacts of utilizing the five facilities for installation of the radio direction finding equipment. Due to the minimal environmental impacts anticipated, a draft of this Environmental Assessment was not circulated for comment. The FEA evaluates the Preferred Alternative to install the temporary radio direction finding equipment; the No Action Alternative in which the equipment would never be deployed; and what could be considered the “delayed action” alternative in which no interim measures would be taken until the permanent improvements to the NDS are in place. The FONSI determined that the Preferred Alternative action will have no significant effects on the human environment.

ADDRESSES: Written requests for copies of the Final Environmental Assessment and FONSI, or requests for information, should be directed to: Mr. Luke Dlhopolsky, U.S. Coast Guard Civil Engineering Unit Providence, 300 Metro Center Boulevard, Warwick, Rhode Island 02886 or by calling (401) 736-1743.

FOR FURTHER INFORMATION CONTACT: For questions on this notice, the FEA or FONSI, or for general information on the U.S. Coast Guard's National Environmental Policy Act (NEPA) process, please contact Mr. Luke Dlhopolsky, U.S. Coast Guard Civil Engineering Unit Providence, 300 Metro Center Boulevard, Warwick, Rhode Island 02886 or by calling (401) 736-1743.

SUPPLEMENTARY INFORMATION: Temporary RDF equipment will be installed on a number of waterfront sites throughout the First Coast Guard District Area of Responsibility (AOR). This AOR includes all six New England States, eastern New York State, and northern New Jersey (north of the Shrewsbury River). Most of the RDF equipment will be installed on facilities that are Coast Guard owned. However, to ensure effective coverage of the coastal areas, the Coast Guard determined that some equipment must be installed at locations where there is no Coast Guard owned facility. The Coast Guard identified suitable sites where the RDF equipment could be installed and will enter into lease agreements with the property owners. These sites, owned by other government agencies or private parties, are located in Buzzards Bay (Bourne) and New Bedford, Massachusetts; Newport, Rhode Island; and Mamaroneck and Great River, New York.

Under the Coast Guard's Procedures for Implementing the National Environmental Policy Act (NEPA), the actions to install the RDF equipment at Coast Guard owned facilities are Categorically Excluded from further environmental analysis and documentation due to minimal expected environmental impact. However, there is no established Categorical Exclusion that addresses acquisition of property for such uses. As a result, these NEPA implementing procedures require that an environmental assessment be prepared. The FEA and FONSI are available for public inspection at the following locations: USCG Civil Engineering Unit Providence, 300 Metro Center Boulevard, Warwick, Rhode Island 02886 (401) 736-1743

First Coast Guard District Operations Division, 408 Atlantic Avenue, Boston Massachusetts 02110 (617) 223-8458 Commandant (G-SEC), U.S. Coast Guard Headquarters, 2100 2nd Street, SW., Washington, DC 20593

Dated: March 9, 2001.
G.N. Naccara,
Rear Admiral, U.S. Coast Guard, Commander, First Coast Guard District.

[FR Doc. 01-11715 Filed 5-8-01; 8:45 am]

BILLING CODE 4910-15-P